DEPARTMENT OF ENERGY

National Nuclear Security Administration; Notice of Availability of the Final Site-Wide Environmental Impact Statement for the Oak Ridge Y-12 Plant

AGENCY: Department of Energy, National Nuclear Security Administration.

ACTION: Notice of availability.

SUMMARY: The National Nuclear Security Administration (NNSA), a separately organized agency within the Department of Energy (DOE), announces the availability of the Final Site-Wide Environmental Impact Statement for the Oak Ridge Y-12 Plant [Y-12 Final SWEIS] (DOE/EIS-0309). The Y-12 Final SWEIS evaluates the potential environmental impacts associated with the continued operations of the Y-12 Plant, as well as with alternatives for modernizing Y-12 facilities to ensure its capability to meet future nuclear weapon stockpile needs in the post-Cold War era. The alternatives include construction and operation of new facilities for two of Y-12's missions: Highly Enriched Uranium (HEU) Materials Storage mission and Special Materials mission. The preferred alternative is to construct and operate a new HEU Materials Storage Facility and a new Special Materials Complex. The preferred site for the HEU Materials Storage Facility is Site A (West Portal Parking Lot). The preferred site for the Spcial Materials Complex Facility is Site 1 (northwest of Building 9114 and on the north side of Bear Creek Road).

ADDRESSES: Copies of the Y-12 Final SWEIS may be obtained by mail (U.S. Department of Energy, Oak Ridge Operations Office, Attn: Mr. Gary Hartman, P.O. Box 2001, Oak Ridge, TN 37831), by fax (1-865-576-1237), by phone (1-865-576-0273), or electronically (Y12EIS@oro.doe.gov). The Y-12 Final SWEIS is also available for review at the U.S. Department of Energy Public Reading Room at 230 Warehouse Road, Oak Ridge, TN 37830.

FOR FURTHER INFORMATION CONTACT: For general information on the NNSA NEPA process, please contact: Mr. James Mangeno, NEPA Compliance Officer for NNSA, U.S. Department of Energy/NNSA, 1000 Independence Avenue, SW., Washington, DC 20585; or telephone 1-800-832-0885, ext. 68395. For general information on the DOE NEPA process, please contact: Ms. Carol M. Borgstrom, Director, Office of NEPA Policy and Compliance (EH-42), U.S. Department of Energy, 1000 Independence Avenue, SW., Washington, DC 20585, telephone 202-586-4600, or leave a message at 1-800-472-2756.

SUPPLEMENTARY INFORMATION: The NNSA is responsible for providing the Nation with nuclear weapons and ensuring that those nuclear weapons remain safe, secure, and reliable. As one of the major production facilities, the Oak Ridge Y-12 Plant has been DOE's primary site for enriched uranium processing and storage, and one of the manufacturing facilities for maintaining the U.S. nuclear weapons stockpile. In recent years, the emphasis of the U.S. weapons program has shifted from developing and producing new weapons to dismantlement and maintenance of a smaller stockpile.

The Y-12 Final SWEIS evaluates the potential environmental impacts from continued operation of the Oak Ridge Y-12 Plant, and the construction and operation of new facilities for two of Y-12's missions: HEU Materials Storage mission and Special Materials mission. Alternatives considered for the HEU Materials Storage mission include constructing and operating a new HEU Materials Facility at one of two candidate sites, or expanding and operating Building 9215 (the preferred site is Site A). Three candidate sites are evaluated for a new Special Materials Complex for the Special Materials mission at Y-12 (the preferred site is Site 1). More specifically, the Y-12 Final SWEIS analyzes potential impacts on land uses, transportation, socioeconomics, geology and soils, hydrology, biological resources, air quality/noise, site facilities and support activities, waste management, and cultural resources. In addition, environmental justice, radiological and chemical impacts during normal operations, and effects of accidents on workers and the public are included in the assessment. The preferred alternative is to construct and operate a new HEU Materials Storage Facility at Site A and a new Special Materials Complex at Site 1. A Record of Decision is expected to be issued no sooner than 30 days from the date of this announcement.

Issued in Washington, DC this 5th day of November, 2001.
John Gordon,
Administrator, National Nuclear Security Administration, Department of Energy.

[FR Doc. 01-28153 Filed 11-8-01; 8:45 am]

BILLING CODE 6450-01-P